DEPARTMENT OF STATE

[Public Notice 7015]

Shipping Coordinating Committee; Notice of Committee Meeting

The Shipping Coordinating Committee (SHC) will conduct an open meeting at 9 a.m. on Wednesday, June 23, 2010, in Conference Room 05-1224 of the United States Coast Guard Headquarters Building, 2100 Second Street, SW., Washington, DC 20593-0001. The primary purpose of the meeting is to prepare for the eighteenth Session of the International Maritime Organization (IMO) Subcommittee on Flag State Implementation (FSI) to be held at the IMO headquarters in London, United Kingdom, from July 5 to July 9, 2010.

The primary matters to be considered include:

—Adoption of the agenda;

—Decisions of other IMO bodies;

—Responsibilities of Governments and measures to encourage Flag State compliance;

—Mandatory reports under International Convention for the Prevention of Pollution from Ships, 1973, as modified by the Protocol of 1978 (MARPOL 73/78);

—Port reception facilities-related issues;

—Casualty statistics and investigations;

—Harmonization of port State control activities;

—Port State Control (PSC) Guidelines on seafarers' working hours and PSC guidelines in relation to the Maritime Labour Convention, 2006;

—Development of guidelines on port State control under the 2004 Ballast Water Management (BWM) Convention;

— Review of Guidelines for the inspection of anti-fouling systems on ships;

—Comprehensive analysis of difficulties encountered in the implementation of IMO instruments;

—Review of the Survey Guidelines under the Harmonized System of Survey and Certification (HSSC);

—Consideration of International Association of Classification Societies (IACS) unified interpretations;

—Review of the Code for the Implementation of Mandatory IMO Instruments;

—Development of a Code for Recognized Organizations;

—Measures to protect the safety of persons rescued at sea;

—Election of Chairman and Vice-Chairman for 2010.

Members of the public may attend this meeting up to the seating capacity of the room. To facilitate the building security process and to request reasonable accommodation, those who plan to attend should contact the meeting coordinator; Mr. E.J. Terminella by e-mail at Emanuel.J.TerminellaJr@uscg.mil, by phone at (202) 372-1239, by fax at (202) 372-1918, or in writing at Commandant (CG-5432), U.S. Coast Guard, 2100 2nd Street, SW., Stop 7581, Washington, DC 20593-7581 not later than June 16, 2010, 7 days prior to the meeting. Requests made after June 16, 2010 might not be able to be accommodated. Please note that due to security considerations, two valid, government issued photo identifications must be presented to gain entrance to the Headquarters building. The Headquarters building is accessible by taxi and privately owned conveyance (public transportation is not generally available). However, parking in the vicinity of the building is extremely limited.

Additional information regarding this and other IMO SHC public meetings may be found at: http://www.uscg.mil/imo.

Dated: May 11, 2010.
Jon Trent Warner,
Executive Secretary, Shipping Coordinating Committee, Department of State.

[FR Doc. 2010-11858 Filed 5-17-10; 8:45 am]

BILLING CODE 4710-09-P